DEPARTMENT OF ENERGY

Federal Energy Regulatory Commission

Combined Notice of Filings

Take notice that the Commission has received the following Natural Gas Pipeline Rate and Refund Report filings:

Docket Numbers: RP11-2037-000.

Applicants: Kinder Morgan Interstate Gas Transmission LLC.

Description: Kinder Morgan Interstate Gas Transmission LLC submits tariff filing per 154.204: Negotiated Rate 2011-04-27 CIMA Energy, LTD, to be effective 5/1/2011.

Filed Date: 04/27/2011.

Accession Number: 20110427-5094.

Comment Date: 5 p.m. Eastern Time on Monday, May 9, 2011.

Docket Numbers: RP11-2038-000.

Applicants: Rockies Express Pipeline LLC.

Description: Rockies Express Pipeline LLC submits tariff filing per 154.204: Negotiated Rate 2011-04-27 BP to be effective 5/1/2011.

Filed Date: 04/27/2011.

Accession Number: 20110427-5095.

Comment Date: 5 p.m. Eastern Time on Monday, May 9, 2011.

Docket Numbers: RP11-2039-000.

Applicants: Southern Star Central Gas Pipeline, Inc.

Description: Southern Star Central Gas Pipeline, Inc. submits tariff filing per 154.204: Maps Update Filing 2011 to be effective 6/1/2011.

Filed Date: 04/27/2011.

Accession Number: 20110427-5113.

Comment Date: 5 p.m. Eastern Time on Monday, May 9, 2011.

Docket Numbers: RP11-2040-000.

Applicants: Discovery Gas Transmission LLC.

Description: Imbalance Cash-out Report of Discovery Gas Transmission LLC for 2010.

Filed Date: 04/27/2011.

Accession Number: 20110427-5118.

Comment Date: 5 p.m. Eastern Time on Monday, May 9, 2011.

Docket Numbers: RP11-2041-000.

Applicants: Equitrans, L.P.

Description: Equitrans, L.P. submits tariff filing per 154.204: Revision to Form of Service Agreement Exhibit A for Rate Schedule 115SS and 60SS to be effective 5/27/2011.

Filed Date: 04/27/2011.

Accession Number: 20110427-5169.

Comment Date: 5 p.m. Eastern Time on Monday, May 9, 2011.

Docket Numbers: RP11-2042-000.

Applicants: Gulf South Pipeline Company, LP.

Description: Gulf South Pipeline Company, LP submits tariff filing per 154.204: HK to Sequent 38577, 38224 Capacity Release Negotiated Rate Filing to be effective 5/1/2011.

Filed Date: 04/27/2011.

Accession Number: 20110427-5183.

Comment Date: 5 p.m. Eastern Time on Monday, May 9, 2011.

Docket Numbers: RP11-2043-000.

Applicants: Gulf South Pipeline Company, LP.

Description: Gulf South Pipeline Company, LP submits tariff filing per 154.204: Enerquest to Sequent 38756 Negotiated Rate Capacity Release Agreement to be effective 5/1/2011.

Filed Date: 04/27/2011.

Accession Number: 20110427-5184.

Comment Date: 5 p.m. Eastern Time on Monday, May 9, 2011.

Docket Numbers: RP11-2044-000.

Applicants: Carolina Gas Transmission Corporation.

Description: Carolina Gas Transmission Corporation submits tariff filing per 154.204: Gas Quality Tariff Revision and Misc Tariff Changes to be effective 4/27/2011.

Filed Date: 04/27/2011.

Accession Number: 20110427-5219.

Comment Date: 5 p.m. Eastern Time on Monday, May 9, 2011.

Docket Numbers: RP11-2045-000.

Applicants: North Baja Pipeline, LLC.

Description: North Baja Pipeline, LLC submits tariff filing per 154.204: Maps 2011 to be effective 6/1/2011.

Filed Date: 04/27/2011.

Accession Number: 20110427-5252.

Comment Date: 5 p.m. Eastern Time on Monday, May 09, 2011.

Docket Numbers: RP11-2046-000.

Applicants: Tuscarora Gas Transmission Company.

Description: Tuscarora Gas Transmission Company submits tariff filing per 154.204: Maps 2011 to be effective 6/1/2011.

Filed Date: 04/27/2011.

Accession Number: 20110427-5253.

Comment Date: 5 p.m. Eastern Time on Monday, May 9, 2011.

Docket Numbers: RP11-2047-000.

Applicants: ANR Pipeline Company.

Description: ANR Pipeline Company submits tariff filing per 154.204: Maps 2011 to be effective 6/1/2011.

Filed Date: 04/27/2011.

Accession Number: 20110427-5254.

Comment Date: 5 p.m. Eastern Time on Monday, May 9, 2011.

Docket Numbers: RP11-2048-000.

Applicants: Texas Gas Transmission, LLC.

Description: Texas Gas Transmission, LLC submits tariff filing per 154.204: Update System Maps to be effective 6/1/2011.

Filed Date: 04/28/2011.

Accession Number: 20110428-5125.

Comment Date: 5 p.m. Eastern Time on Tuesday, May 10, 2011.

Docket Numbers: RP11-2049-000.

Applicants: Gulf Crossing Pipeline Company LLC.

Description: Gulf Crossing Pipeline Company LLC submits tariff filing per 154.204: Antero 2 to Tenaska 201 Capacity Release Negotiated Rate Agreement to be effective 5/1/2011.

Filed Date: 04/28/2011.

Accession Number: 20110428-5153.

Comment Date: 5 p.m. Eastern Time on Tuesday, May 10, 2011.

Docket Numbers: RP11-2050-000.

Applicants: Gulf Crossing Pipeline Company LLC.

Description: Gulf Crossing Pipeline Company LLC submits tariff filing per 154.204: Newfield 18 to Tenaska 202 Capacity Release Negotiated Rate Agreement to be effective 5/1/2011.

Filed Date: 04/28/2011.

Accession Number: 20110428-5154.

Comment Date: 5 p.m. Eastern Time on Tuesday, May 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 28, 2011.
Nathaniel J. Davis, Sr.,
Deputy Secretary.

[FR Doc. 2011-10835 Filed 5-3-11; 8:45 am]

BILLING CODE 6717-01-P